DEPARTMENT OF THE INTERIOR

Fish and Wildlife Service

Environmental Assessment and Receipt of an Application for a Permit To Enhance the Survival of the Gunnison Sage-Grouse in Southwestern Colorado Through a Candidate Conservation Agreement With Assurances

AGENCY: Fish and Wildlife Service, Interior.

ACTION: Notice of availability and receipt of application.

SUMMARY: Colorado Division of Wildlife (CDOW) has applied to the Fish and Wildlife Service (Service) for an Enhancement of Survival Permit for the Gunnison Sage-Grouse (Centrocercus minimus) pursuant to section 10(a)(1)(A) of the Endangered Species Act of 1973, as amended (ESA). The permit application includes a proposed Candidate Conservation Agreement with Assurances (Agreement) between the CDOW and the Service. The Agreement, the permit application, and the Environmental Assessment are available for public comment.

The purpose of the Agreement is for the CDOW and the Service to implement conservation measures for the Gunnison sage-grouse in 15 counties in southwestern Colorado. The effort is in support of the CDOW's ongoing efforts to enhance the abundance and distribution of the Gunnison sage-grouse throughout its historic range in Colorado. The conservation measures would be implemented by the CDOW and by participating landowners. The selected conservation measures would primarily come from the Gunnison Sage-Grouse Rangewide Conservation Plan, which was completed in April 2005 by numerous cooperating agencies and nongovernmental organizations. Consistent with the Service's Candidate Conservation Agreement with Assurances Final Policy (64 FR 32726, June 17,1999), the Agreement is intended to facilitate the conservation of Gunnison sage-grouse by giving the State of Colorado and cooperating private landowners incentives to implement conservation measures. Participating Landowners would receive regulatory certainty concerning land use restrictions that might otherwise apply should the Gunnison sage-grouse become listed under the ESA. Participating Landowners with eligible property in southwestern Colorado could sign up under the Agreement and the associated permit through a Certificate of Inclusion. The proposed term of the Agreement and the permit is 20 years. The Service has prepared an Environmental Assessment for approval of the Agreement and issuance of the permit.

The environmental assessment considers the biological, environmental, and socioeconomic effects of the proposed Agreement and permit. The assessment also evaluates two alternatives to the Agreement and permit, and their potential impacts on the environment.

We request comments from the public on the permit application, Agreement, and Environmental Assessment. All comments we receive, including names and addresses, will become part of the administrative record and may be released to the public.

DATES: Written comments on the permit application must be received on or before September 6, 2005.

ADDRESSES: Written data or comments concerning the permit application, the Agreement, or the Environmental Assessment should be submitted to Allan R. Pfister, Western Colorado Field Supervisor, U.S. Fish and Wildlife Service, 764 Horizon Drive, Building B, Grand Junction, Colorado 81506-3946. Written comments also may be provided electronically to al_pfister@fws.gov, or by facsimile to 970-245-6933. Comments must be submitted in writing to be adequately considered in the Service's decision-making process.

FOR FURTHER INFORMATION CONTACT: Allan R. Pfister or Terry Ireland at the above address, or telephone 970-243-2778

SUPPLEMENTARY INFORMATION:

Document Availability

Persons wishing to review the permit application, Agreement, and the Environmental Assessment may obtain a copy by writing the Service's Grand Junction Ecological Services office at the above address, or contacting the above office by telephone, electronic mail, or facsimile. You also may make an appointment to view the documents at the above address during normal business hours. The documents also are available electronically on the World Wide Web at http://mountain-prairie.fws.gov/species/birds/gunnisonsagegrouse/.

Background

Under a Candidate Conservation Agreement with Assurances, participating landowners voluntarily implement conservation activities on their properties to benefit species that are proposed for listing under the ESA, candidates species, or other sensitive species. Candidate Conservation Agreements with Assurances encourage private and other non-Federal property owners to implement conservation efforts and reduce threats to unlisted species by assuring them they will not be subjected to increased property-use restrictions if the species is listed in the future under the ESA. Application requirements and issuance criteria for enhancement of survival permits through Candidate Conservation Agreements with Assurances are found in 50 CFR 17.22(d) and 17.32(d).

On March 15, 2000, the Service found that listing the Gunnison sage-grouse under the ESA may be warranted, and initiated a review of the species' status. The Gunnison sage-grouse currently occupies about 8.5 percent of its historic range in southwestern Colorado and southeastern Utah. The species now persists in seven fragmented populations in Colorado and one population in Utah. The largest remaining population is located in Gunnison County, Colorado, which is currently estimated at 2,443 individuals (about 76 percent of the entire population). The total population in Colorado is currently estimated at 3,046 individuals. With the additional 152 individuals in Utah, the best information currently available suggests a total population of 3,198 individuals.

The 2005 Gunnison Sage-Grouse Rangewide Conservation Plan and the Service's 2004 Candidate Notice of Review have identified threats that contribute to the current and future status of the species. These include—habitat loss, fragmentation, and degradation; disease (e.g., West Nile virus); predation; lack of existing regulatory protection; drought; disturbance to adults; juveniles (e.g., off-highway-vehicles, construction projects, dogs, noise); low genetic diversity; and competition for habitat from other species. The 2005 Gunnison Sage-Grouse Rangewide Conservation Plan also estimates that about 46 percent of the currently occupied habitat in Colorado and Utah is in non-Federal ownership. The CDOW and Service do not believe a viable population of Gunnison sage-grouse can be assured in the long term by implementing conservation efforts on Federal lands only. The fact that nearly one-half of the currently occupied habitat is privately owned, combined with the low potential for the long-term species viability on Federal lands alone, emphasizes the need to encourage and actively promote conservation efforts by private landowners.

Consequently, the CDOW has developed an Agreement for the Gunnison sage-grouse in cooperation with the Service, and has applied to the Service for a permit under section 10(a) of the ESA (16 U.S.C. 1531 et seq.), which would authorize future incidental take of the Gunnison sage-grouse by the CDOW and cooperating landowners. The CDOW and the Service believe approval of the Agreement is necessary to promote implementation of conservation measures on non-Federal lands. The CDOW and the Service believe implementation of the Agreement will make a significant contribution to the long-term viability of the species, which may help defend that Federal listing is not warranted. Without the Agreement, the CDOW and the Service are concerned that the population of the Gunnison sage-grouse in Colorado may continue to decline. Further decline of the species could trigger listing under the ESA, which could provide a disincentive to private landowners for conservation of the species on private lands. The lack of conservation efforts on private lands could reduce the potential for successfully achieving long-term viability for the species.

Under the Agreement and permit, Participating Landowners would provide certain Gunnison sage-grouse habitat protection of enhancement measures on their lands. These measures would be primarily those identified in the 2005 Gunnison sage-grouse Rangewide Conservation Plan, but additional conservation practices could be determined throughout the 20-year period of the Agreement. Protection and enhancement measures will be directed towards Gunnison sage-grouse lek, nest, roost, and/or winter habitat. If the Gunnison sage-grouse is listed under the ESA, and after a Participating Landowner has provided the agreed-upon habitat conditions for the specified period of time, the permit would authorize incidental take of Gunnison sage-grouse as a result of the non-Federal landowner's agricultural or industrial related activities (e.g., crop cultivation, crop harvesting livestock grazing, farm equipment operation, commercial/residential development).

We are providing this notice pursuant to section 10(c) of the ESA and implementing regulations for the National Environmental Policy Act (40 CFR 1506.6). We will evaluate the permit application, associated documents, and comments submitted thereon to determine whether the permit application meets the requirements of section 10(a) of the ESA and National Environmental Policy Act regulations. The Service also will evaluate whether the issuance of the Agreement complies with section 7 of the ESA by conducting an intra-Service section 7 consultation on the issuance of the permit. If we determine that all requirements are met, we will sign the Agreement and issue an enhancement of survival permit under section 10(a)(1)(A) of ESA to the CDOW for take of Gunnison sage-grouse incidental to otherwise lawful activities in accordance with the terms of the Agreement. We will not make our final decision until after the end of the 60-day comment period and we will fully consider all comments received during the comment period.

Authority: The authority for this action is the Endangered Species Act of 1973, as amended (16 U.S.C. 1521 et seq.) and the National Environmental Policy Act of 1969, as amended (42 U.S.C. 4321 et seq.).

Dated: June 10, 2005.
Ralph O. Morgenweck,
Regional Director, Denver Colorado.

[FR Doc. 05-13247 Filed 7-5-05; 8:45 am]

BILLING CODE 4310-55-M